NUCLEAR REGULATORY COMMISSION

Advisory Committee on Nuclear Waste; Notice of Meeting

The Advisory Committee on Nuclear Waste (ACNW) will hold its 147th meeting on November 19-20, 2003, Dallas Ballroom D, Texas Station Hotel, 2101 Texas Star Lane, Las Vegas, Nevada.

The entire meeting will be open to public attendance.

The schedule for this meeting is as follows:

Wednesday, November 19, 2003

10:30 a.m.-10:40 a.m.: Opening Statement (Open)—The Chairman will open the meeting with brief opening remarks, outline the topics to be discussed, and indicate items of interest.

10:40 a.m.-11:10 a.m.: DOE Opening Remarks (Open)—The Committee will be welcomed and receive introductory comments from John Arthur, Deputy Director, Office of Repository Development, Department of Energy.

11:10 a.m.-12:15 p.m.: Yucca Mountain Program Status (Open)—The Committee will hear presentations by and hold discussions with representatives of DOE regarding the status of the development of the License Application, the Licensing Support Network, and the resolution of Key Technical Issues (KTI) including the DOE “bundling” process. In addition there will be an update on several items discussed during the Committee's 2002 visit to Nevada.

1:30 p.m.-4:30 p.m.: Repository Design Status (Open)—The Committee will hear presentations by and hold discussions with representatives of DOE regarding the surface facility design, pre-closure safety assessment, and other Yucca Mountain Repository design issues.

4:45 p.m.-5:30 p.m.: DOE Approach to Drift Degradation Analyses (Open)—The Committee will hear presentations by and hold discussions with representatives of DOE on the Department's approach to evaluating drift degradation within the Yucca Mountain geologic environment.

5:30 p.m.-6 p.m.: Stakeholder Interactions (Open)—The Committee will reserve this time for interactions with stakeholders and meeting participants.

Thursday, November 20, 2003

8:30 a.m.-8:35 a.m.: Opening Statement (Open)—The Chairman will make opening remarks regarding the conduct of today's sessions.

8:35 a.m.-9:30 a.m.: Igneous Activity Status Report (Open)—The Committee will hear presentations by and hold discussions with representatives of DOE regarding the Igneous Activity Consequence Modeling Peer Review Recommendations and the DOE path forward.

9:30 a.m.-10 a.m.: Inyo County Carbonate Drilling Program Status (Open)—The Committee will hear presentations by and hold discussions with representatives of Inyo County (California) regarding its deep carbonate aquifer drilling program.

10:15 a.m.-10:45 a.m.: Nye County Early Warning Drilling Program Status (Open)—The Committee will hear presentations by and hold discussions with representatives of Nye County regarding the status of its early warning drilling program.

10:45 a.m.-11:30 a.m.: EPRI Workshop on Natural Analogues (Open)—The Committee will hear presentations by and hold discussions with representatives of the Electric Power Research Institute (EPRI) regarding its recent workshop on natural analogues and their potential applicability to Yucca Mountain repository programs.

12:45 p.m.-2 p.m.: Presentation by Affected Units of Local Government (Open)—The Committee will hear presentations by and hold discussions with representatives of affected units of local government and Native American Organizations regarding their views on the proposed high-level waste repository at Yucca Mountain.

2:15 p.m.-3 p.m.: Stakeholder Interactions (Open)—The Committee will reserve this time for interactions with stakeholders and meeting participants.

3 p.m.-5:45 p.m.: Preparation of ACNW Reports (Open)—The Committee will discuss possible reports on the Pre-Closure Safety Assessment Tool, Drift Degradation at Yucca Mountain, and Public Interactions.

5:45 p.m.-6 p.m.: Miscellaneous (Open)—The Committee will discuss matters related to the conduct of Committee activities and matters and specific issues that were not completed during previous meetings, as time and availability of information permit.

Procedures for the conduct of and participation in ACNW meetings were published in the Federal Register on October 16, 2003 (68 FR 59643). In accordance with these procedures, oral or written statements may be presented by members of the public. Electronic recordings will be permitted only during those portions of the meeting that are open to the public. Persons desiring to make oral statements should notify Mr. Howard J. Larson, Special Assistant (Telephone 301/415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACNW meetings. Those wishing to use this service for observing ACNW meetings should contact Mr. Theron Brown, ACNW Audiovisual Technician (301/415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: November 4, 2003.
Andrew L. Bates,
Advisory Committee Management Officer.

[FR Doc. 03-28180 Filed 11-7-03; 8:45 am]

BILLING CODE 7590-01-P